DEPARTMENT OF HEALTH AND HUMAN SERVICES

Centers for Medicare and Medicaid Services

[CMS-8003]

Agency Information Collection Activities: Proposed Collection; Comments Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comments. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. Type of Information Collection Request: Extension of a currently approved collection; Title of Information Collection: Home and Community-Based Services Waiver Requests and Supporting Regulations in 42 CFR 440.180-1.185, and 441.301-441.310; Form No.: CMS-8003 (OMB# 0938-0449); Use: Under a Secretarial waiver, States may offer a wide array of home and community-based services to individuals who would otherwise require institutionalization. States requesting a waiver must provide certain assurances, documentation and cost and utilization estimates which are reviewed, approved and maintained for the purpose of identifying/verifying States' compliance with such statutory and regulatory requirements. The purposes of this request is to provide authority for the State to furnish such individuals with services in the home and community-based setting; Frequency: When a State requests a waiver or amendment to a waiver; Affected Public: State, Local or Tribal Government; Number of Respondents: 50; Total Annual Responses: 128; Total Annual Hours: 7,860.

To obtain copies of the supporting statement and any related forms for the proposed paperwork collections referenced above, access CMS's Web Site address at http://www.hcfa.gov/regs/prdact95.htm, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Information Services, Security and Standards Group, Division of CMS Enterprise Standards. Attention: Room N2-14-26, 7500 Security Boulevard, Baltimore, Maryland 21244-1850.

Dated: January 30, 2002.
John P. Burke, III,
Reports Clearance Officer, Security and Standards Group, Division of CMS Enterprise Standards.

[FR Doc. 02-3025 Filed 2-7-02; 8:45 am]

BILLING CODE 4120-03-M